DEPARTMENT OF ENERGY

International Energy Agency Meetings

AGENCY: Department of Energy.

ACTION: Notice of meetings.

SUMMARY: The Industry Advisory Board (IAB) to the International Energy Agency (IEA) will meet on March 20, 2018, at OECD Conference Centre, Room CC 7, 2 Rue André Pascal, 75016 Paris, France, in connection with a joint meeting of the IEA's Standing Group on Emergency Questions (SEQ) and the IEA's Standing Group on the Oil Market (SOM) on March 21, 2018, in connection with a meeting of the SEQ on that day.

DATES: March 20-21, 2018.

ADDRESSES: 2 Rue André Pascal, 75016 Paris, France.

FOR FURTHER INFORMATION CONTACT: Thomas Reilly, Assistant General Counsel for International and National Security Programs, Department of Energy, 1000 Independence Avenue SW, Washington, DC 20585, 202-586-5000.

SUPPLEMENTARY INFORMATION: In accordance with section 252(c)(1)(A)(i) of the Energy Policy and Conservation Act (42 U.S.C. 6272(c)(1)(A)(i)) (EPCA), the following notice of meetings is provided:

A meeting of the Industry Advisory Board (IAB) to the International Energy Agency (IEA) will be held at the OECD Conference Centre, Room CC 7, 2 Rue André Pascal, 75016 Paris, France, commencing at 09:30 a.m. on March 20, 2018. The purpose of this notice is to permit attendance by representatives of U.S. company members of the IAB at a joint meeting of the IEA's Standing Group on Emergency Questions (SEQ) and the IEA's Standing Group on the Oil Market (SOM), which is scheduled to be held at the same location and time.

The IAB will also hold a preparatory meeting among company representatives at the same location at 8:30 a.m. on March 21, 2018. The agenda for this preparatory meeting is to review the agenda for the SEQ meeting.

The agenda of the meeting is under the control of the SEQ and the SOM. It is expected that the SEQ and the SOM will adopt the following agenda:

Start meeting/Introduction.

1. Adoption of the Agenda

2. Approval of Summary Record of 14 September 2017

3. Reports on Recent Oil Market and Policy Developments in IEA Countries

4. Update on the Current Oil Market Situation: followed by Q&A

5. Presentation: “The ongoing transformation of the oil and gas industry” followed by Q&A

6. Presentation: “Midstream infrastructure: is North America building enough pipelines to accommodate its growing oil production?” followed by Q&A

7. Presentation: “Long term oil demand and supply under divergent scenarios” followed by Q&A

8. Presentation: “Uncertainty looms on Russia's oil market horizon” followed by Q&A

9. Presentation: “World Energy Outlook 2017—Long-term outlook for oil markets” followed by Q&A

10. Presentation on: “TBD Maritime Issues” followed by Q&A

11. Other Business

—Tentative schedule of the next SOM meeting:

26 June 2018, Location TBC

A meeting of the Industry Advisory Board (IAB) to the International Energy Agency (IEA) will be held at the OECD Conference Centre, Room CC 7, 2 Rue André Pascal, 75016 Paris, France, commencing at 9:30 a.m. on March 21, 2018. The purpose of this notice is to permit attendance by representatives of U.S. company members of the IAB at a meeting of the IEA's Standing Group on Emergency Questions (SEQ), which is scheduled to be held at the same location and time. The IAB will also hold a preparatory meeting among company representatives at the same location at 8:30 a.m. on March 21. The agenda for this preparatory meeting is to review the agenda for the SEQ meeting.

The agenda of the SEQ meeting is under the control of the SEQ. It is expected that the SEQ will adopt the following agenda:

Closed SEQ Session—IEA Member Countries Only

1. Adoption of the Agenda

2. Approval of the Summary Record of the 152nd Meeting

3. Status of Compliance with IEP Agreement Stockholding Obligations

4. Implementation of the 2017 Ministerial Mandate on Oil Security

Open SEQ Session—Open to Association Countries

5. Update of the 2013 Cost-benefit of Stockholding Study

6. Mid-term Review of Denmark

7. Secretariat study of Stock Ticketing Practices among IEA Members

8. Industry Advisory Board Update

9. Emergency Response Review of Turkey

10. Update of ASEAN+6 Energy Security Study

11. Mid-term Review of Greece

12. ERE9: Discussion of EXCAP and EXMAIN Planning Efforts

13. Outreach

—Overview of recent activities

—Recent APERC meeting

—Recent JOGMEC training for ASEAN

14. Oral Reports by Administrations

—New Zealand

—Austria & Italy (Baumgarten Incident)

—Netherlands (Groningen Update)

—UK (Forties & Gas)

—Mexico (Stockholding Policy)

15. Other Business

—ERR Programme

—Joint Questionnaire

Schedule of SEQ & SOM Meetings

—26-27 June 2018

—28-29 June 2018 (ERE9)

—27-29 November 2018

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the General Accounting Office, Committees of Congress, the IEA, and the European Commission; and invitees of the IAB, the SEQ, the SOM, or the IEA.

Issued in Washington, DC, March 12, 2018.
Thomas Reilly,
Assistant General Counsel for International and National Security Programs.

[FR Doc. 2018-05361 Filed 3-15-18; 8:45 am]

BILLING CODE 6450-01-P